DEPARTMENT OF STATE

[Public Notice 8273]

60-Day Notice of Proposed Information Collection: PEPFAR Program Expenditures

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 14, 2013.

ADDRESSES:

You may submit comments by any of the following methods:

• Web: Persons with access to the Internet may use the Federal Docket Management System (FDMS) to comment on this notice by going to www.Regulations.gov. You can search for the document by entering “Public Notice ####” in the Search bar. If necessary, use the Narrow by Agency filter option on the Results page.

• Email: duboisa@state.gov

• Mail: Office of the U.S. Global AIDS Coordinator (S/GAC), U.S. Department of State, SA-29, 2100 Pennsylvania Avenue NW., Suite 200, Washington, DC 20522-2920

• Fax: 202-663-2979

You must include the DS form number (if applicable), information collection title, and the OMB control number in any correspondence.

FOR FURTHER INFORMATION CONTACT: Direct requests for additional information regarding the collection listed in this notice, including requests for copies of the proposed collection instrument and supporting documents, to Dr. Amy DuBois, 2100 Pennsylvania Avenue NW., Suite 200, SA-29, Washington, DC 20522-2920, who may be reached on 202-663-2440 or at duboisa@state.gov.

SUPPLEMENTARY INFORMATION:

• Title of Information Collection: PEPFAR Program Expenditures

• OMB Control Number: 1405-0208

• Type of Request: Revision of a Currently Approved Collection

• Originating Office: Office of the U.S. Global AIDS Coordinator (S/GAC)

• Form Number: DS-4213

• Respondents: Recipients of U.S. government funds appropriated to carry out the President's Emergency Plan for AIDS Relief (PEPFAR)

• Estimated Number of Respondents: 1581

• Estimated Number of Responses: 1581

• Average Time per Response: 24 hours

• Total Estimated Burden Time: 37,944 hours

• Frequency: Annually

• Obligation To Respond: Mandatory

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: The U.S. President's Emergency Plan for AIDS Relief (PEPFAR) was established through enactment of the United States Leadership Against HIV/AIDS, Tuberculosis, and Malaria Act of 2003 (Pub. L. 108-25), as amended by the Tom Lantos and Henry J. Hyde United States Global Leadership Against HIV/AIDS, Tuberculosis, and Malaria Reauthorization Act of 2008 (Pub. L. 110-293) (HIV/AIDS Leadership Act) to support the global response to HIV/AIDS. In order to improve program monitoring, the interagency Finance and Economics Work Group supporting PEPFAR has added reporting of expenditures by program area to the current routine reporting of program results for the annual report. Data are collected from implementing partners in countries with PEPFAR programs using a standard tool (DS-4213) via an electronic web-based interface into which users directly input data. These data are analyzed to produce mean and range in expenditures by partner per result/achievement for all PEPFAR program areas. These analyses then feed into partner and program reviews at the country level for monitoring and evaluation on an ongoing basis. Summaries of these data provide key information about program costs under PEPFAR on a global level. Applying expenditure results will improve strategic budgeting, identification of efficient means of delivering services, accuracy in defining program targets, and will inform allocation of resources to ensure the program is accountable and using public funds for maximum impact.

Methodology: Data will be collected in a web-based interface available to all partners receiving funds under PEPFAR. To minimize the respondents' reporting burden and need for information technology investment, a new module capturing expenditure data was added to an already functional system. System upgrades now allow collection of the same information but no longer require uploading and downloading of spreadsheet templates. This approach has minimized U.S. government start up costs for the technology and will make the data collection processes more efficient.

Dated: April 1, 2013.
Deborah von Zinkernagel,
Principal Deputy, Office of the U.S. Global AIDS Coordinator, Department of State.

[FR Doc. 2013-08787 Filed 4-12-13; 8:45 am]

BILLING CODE 4710-10-P